DEPARTMENT OF TRANSPORTATION

National Highway Traffic Safety Administration

[Docket No. NHTSA-2007-27774]

Notice of Receipt of Petition for Decision That Nonconforming 2007 Smart Car Passion, Pulse, and Pure (ForTwo Coupe and Cabriolet) Passenger Cars Manufactured Prior to September 1, 2006 Are Eligible for Importation

AGENCY: National Highway Traffic Safety Administration, DOT.

ACTION: Notice of receipt of petition for decision that nonconforming 2007 Smart Car Passion, Pulse, and Pure (ForTwo Coupe and Cabriolet) passenger cars manufactured prior to September 1, 2006, are eligible for importation.

SUMMARY: This document announces receipt by the National Highway Traffic Safety Administration (NHTSA) of a petition for a decision that 2007 Smart Car Passion, Pulse, and Pure (ForTwo Coupe and Cabriolet) passenger cars, manufactured prior to September 1, 2006, that were not originally manufactured to comply with all applicable Federal motor vehicle safety standards (FMVSS) are eligible for importation into the United States because they have safety features that comply with, or are capable of being altered to comply with, all such standards.

DATES: The closing date for comments on the petition is May 10, 2007.

ADDRESSES: Comments should refer to the docket number and notice number, and be submitted to: Docket Management, Room PL-401, 400 Seventh St., SW., Washington, DC 20590. [Docket hours are from 9 a.m. to 5 p.m.]. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS. When there is no substantially similar U.S.-certified counterpart, a nonconforming motor vehicle shall be refused admission into the United States unless NHTSA decides under 49 U.S.C. 30141(a)(1)(B), that the motor vehicle has safety features that comply with, or are capable of being altered to comply with, all applicable FMVSS based on destructive test data or such other evidence NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether nonconforming 2007 Smart Car Passion, Pulse, and Pure (ForTwo Coupe and Cabriolet) passenger cars manufactured prior to September 1, 2006, are eligible for importation into the United States. In its petition, G&K noted that NHTSA has granted import eligibility to 2002-2006 Smart Car Passion, Pulse, and Pure (ForTwo Coupe and Cabriolet) passenger cars that G&K claims are identical to the 2007 Smart Car Passion, Pulse, and Pure (ForTwo Coupe and Cabriolet) passenger cars that are the subject of this petition. In its petitions for the 2002-2006 vehicles, the petitioner claimed that the vehicles were capable of being altered to comply with all applicable FMVSS (see NHTSA Docket Nos. NHTSA-2003-16401, NHTSA-2005-21334, NHTSA-2005-21912, NHTSA-2005-23391 & NHTSA-2006-25071). Because those vehicles were not manufactured for importation into, and sale in, the United States, and were not certified by their original manufacturer (DaimlerChrysler), as conforming to all applicable FMVSS, they cannot be categorized as “substantially similar” to the 2007 version for purposes of establishing import eligibility under 49 U.S.C. 30141(a)(1)(A). However, the petitioner seeks to rely on the data, views and arguments submitted as part of the 2002-2004 petition; proof of conformity information that the petitioner submitted for the first vehicle it conformed under the eligibility decision for the 2002-2004 vehicles; and upon the contention that the 2007 model vehicles differ from the 2002-2006 models only in that they were designated as 2007 model vehicles by their original manufacturer.

G&K contends that nonconforming 2007 Smart Car Passion, Pulse, and Pure (ForTwo Coupe and Cabriolet) passenger cars, manufactured prior to September 1, 2006, are eligible for importation under 49 U.S.C. 30141(a)(1)(B) because they have safety features that comply with, or are capable of being altered to comply with, all applicable FMVSS.

Specifically, the petitioner claims that 2007 Smart Car Passion, Pulse, and Pure (Coupe and Cabriolet) passenger cars have safety features that comply with Standard Nos. 103 Defrosting and Defogging Systems, 104 Windshield Wiping and Washing Systems, 106 Brake Hoses, 109 New Pneumatic Tires, 116 Brake Fluid, 118 Power Window Systems, 124 Accelerator Control Systems, 135 Passenger Car Brake Systems, 202 Head Restraints, 204 Steering Control Rearward Displacement, 205 Glazing Materials, 206 Door Locks and Door Retention Components, 207 Seating Systems, 210 Seat Belt Assembly Anchorages, 212 Windshield Retention, 216 Roof Crush Resistance, and 219 Windshield Zone Intrusion.

Petitioner further contends that the vehicles are capable of being altered to meet the following standards, in the manner indicated:

Standard No. 101 Controls and Displays: (a) inscription of the word “Brake” and a seat belt warning symbol on the dash; and (b) modification of the speedometer to read in miles per hour.

Standard No. 102 Transmission Shift Lever Sequence: inscription of shift sequence markings on the instrument cluster.

Standard No. 108 Lamps, Reflective Devices and Associated Equipment: (a) replacement or modification of the headlamps; (b) installation of side marker lamps; and (c) installation of turn signal lamps. The petition does not describe the headlamp modifications. G&K is claiming confidentiality with respect to some of these modifications.

Standard No. 110 Tire Selection and Rims: installation of a tire information placard.

Standard No. 111 Rearview Mirror: inscription of the required warning statement on the face of the passenger side rearview mirror.

Standard No. 114 Theft Protection: modification of the key locking system and installation of a supplemental key warning buzzer system to meet the requirements of this standard. The petition does not describe these modifications. G&K is claiming confidentiality with respect to these modifications.

Standard No. 201 Occupant Protection in Interior Impact: replacement of interior components with components fabricated by, and available only through, G&K. The petition does not describe these components or their manner of installation. G&K is claiming confidentiality with respect to these modifications.

Standard No. 208 Occupant Crash Protection: installation of supplemental wiring and replacement of the driver's seat belt buckle assembly to comply with the seat belt warning requirements of this standard.

Standard No. 209 Seat Belt Assemblies: replacement of the driver's seat belt buckle assembly with one that conforms to the requirements of Standards No. 208 and 209.

Standard No. 214 Side Impact Protection: modification of the vehicles through the installation of components available only from G&K. The petition does not describe these modifications. G&K is claiming confidentiality with respect to these modifications.

Standard No. 225 Child Restraint Anchorage Systems: installation of a tether anchorage behind the passenger seat on coupe models.

Standard No. 301 Fuel System Integrity: modification of the fuel system through the installation of three components and associated attachment hardware available only from G&K. The petition does not describe these modifications. G&K is claiming confidentiality with respect to these modifications.

Standard No. 302 Flammability of Interior Materials: treatment of interior materials and components covered by the standard. G&K is claiming confidentiality with respect to these modifications.

The petitioner states that a vehicle identification number plate must be affixed to the vehicles to meet the requirements of 49 CFR Part 565. The petitioner further states that a certification label must be affixed to the driver's doorjamb to meet the requirements of 49 CFR Part 567.

Additionally, petitioner states components available only from G&K will be installed on the vehicle to comply with the Bumper Standard found in 49 CFR Part 581. The petition does not describe these modifications. G&K is claiming confidentiality with respect to these modifications.

Interested persons are invited to submit comments on the petition described above. Comments should refer to the docket number and be submitted to: Docket Management, Room PL-401, 400 Seventh St., SW., Washington, DC 20590. [Docket hours are from 9 a.m. to 5 p.m.]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on: April 3, 2007.
Claude H. Harris,
Director, Office of Vehicle Safety Compliance.

[FR Doc. E7-6510 Filed 4-9-07; 8:45 am]

BILLING CODE 4910-59-P